DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Mail Survey to Collect Economic Data from Federal Gulf of Mexico and South Atlantic For-Hire Permit Holders.

OMB Control Number: 0648-xxxx.

Form Number(s): None.

Type of Request: Regular (request for a new information collection).

Number of Respondents: 1,000.

Average Hours per Response: 12 minutes.

Burden Hours: 200.

Needs and Uses: This request is for a new information collection.

The National Oceanic and Atmospheric Administration's (NOAA) Fisheries, Southeast Fisheries Science Center, proposes to collect very basic socioeconomic data from federally-permitted for-hire operators in the Gulf of Mexico and South Atlantic fisheries, using a mail sample survey. The National Marine Fisheries Service (NMFS) does not systematically collect information on for-hire trip prices and trip costs in the Southeast. The population consists of those for-hire operators who possess a federal for-hire permit for dolphin-wahoo, coastal migratory pelagics, snapper-grouper, or reef fish species in the South Atlantic or Gulf of Mexico. Each year we will sample approximately a third of the population. The two-page survey will be designed to collect basic data on trip revenues and trip costs as well as other related information. These data are needed to conduct socioeconomic analyses in support of management of the for-hire fishing industry and to satisfy legal requirements. The data will be used to assess how fishermen will be impacted by and respond to federal regulation likely to be considered by fishery managers.

Affected Public: Business or other for-profit organizations.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 20, 2016.
Sarah Brabson,
NOAA PRA Clearance Officer.

[FR Doc. 2016-01384 Filed 1-25-16; 8:45 am]

BILLING CODE 3510-22-P